OFFICE OF MANAGEMENT AND BUDGET

Delegation of Apportionment Authority

AGENCY: Office of Management and Budget, Executive Office of the President.

ACTION: Notice.

SUMMARY: Pursuant to The Executive Office of the President Appropriations Act, 2022, the Office of Management and Budget is publishing the current delegation of apportionment authority.

DATES: This delegation became effective on March 24, 2022.

FOR FURTHER INFORMATION CONTACT: Heather V. Walsh at 202-395-3642 or MBX.OMB.OGC@omb.eop.gov.

SUPPLEMENTARY INFORMATION:

Delegation of Apportionment Authority

I hereby delegate to each Deputy Associate Director (DAD) the authorities delegated by the President to the Director of the Office of Management and Budget for apportioning funds pursuant to 31 U.S.C. 1513.

In the event that a DAD is on leave and therefore unable to apportion funds, the authority for apportioning funds is hereby delegated to the individual serving as the Acting DAD.

This delegation supersedes any previous delegation of such authority, and shall remain in effect until revoked. This delegation does not limit the authority of the Director to exercise the delegated authority.

Shalanda D. Young,
Director, Office of Management and Budget.

[FR Doc. 2022-06873 Filed 3-31-22; 8:45 am]

BILLING CODE 3110-01-P